OFFICE OF THE UNITED STATES TRADE REPRESENTATIVE

Determinations Under the African Growth and Opportunity Act

AGENCY: Office of the United States Trade Representative.

ACTION: Notice.

SUMMARY: The United States Trade Representative (USTR) has determined that Senegal has adopted an effective visa system and related procedures to prevent unlawful transshipment and the use of counterfeit documents in connection with shipments of textile and apparel articles and has implemented and follows, or is making substantial progress towards implementing and following, the customs procedures required by the African Growth and Opportunity Act (AGOA). Therefore, imports of eligible products from Senegal qualify for the textile and apparel benefits provided under the AGOA. In addition, this notice modifies the Harmonized Tariff Schedule of the United States (HTS) to add Swaziland to the list of “lesser developed beneficiary sub-Saharan African countries.”

DATES: Effective April 23, 2002.

FOR FURTHER INFORMATION CONTACT: Chris Moore, Director for African Affairs, Office of the United States Trade Representative, (202) 395-9514.

SUPPLEMENTARY INFORMATION: The AGOA (Title I of the Trade and Development Act of 2000, Pub. L. No. 106-200) provides preferential tariff treatment for imports of certain textile and apparel products of “beneficiary sub-Saharan African countries,” provided that these countries (1) have adopted an effective visa system and related procedures to prevent unlawful transshipment and the use of counterfeit documents, and (2) have implemented and follow, or are making substantial progress toward implementing and following, certain customs procedures that assist the Customs Service in verifying the origin of the products.

In Proclamation 7350 (Oct. 2, 2000), the President designated Senegal as a “beneficiary sub-Saharn African country.” Proclamation 7350 delegated to the United States Trade Representative the authority to determine whether designated countries have met the two requirements described above. The President directed the USTR to announce any such determinations in the Federal Register and to implement them through modifications of the HTS. Based on actions that Senegal has taken, I have determined that Senegal has satisfied these two requirements.

In Proclamation 7400 (Jan. 17, 2001), the President proclaimed Swaziland a lesser developed beneficiary sub-Saharan African country for purposes of section 112(b)(3)(B) of the AGOA. Due to a technical error, Swaziland was not added to U.S. note 2(d) to subchapter XIX of chapter 98 of the HTS. USTR determined that Swaziland qualified for the textile and apparel benefits of the AGOA effective July 26, 2001. See 66 FR 41648.

According, pursuant to the authority vested in the USTR by Proclamation 7350, U.S. note 7(a) to subchapter II of chapter 98 of the HTS and U.S. note 1 to subchapter XIX of chapter 98 of the HSTS are each modified by inserting “Senegal” in alphabetical sequence in the list of countries. The foregoing modifications to the HTS are effective with respect to articles entered, or withdrawn from warehouse for consumption, on or after the effective date of this notice. Importers claiming preferential tariff treatment under the AGOA for entries of textile and apparel articles should ensure that those entries meet the applicable visa requirements. See Visa Requirements Under the African Growth and Opportunity Act, 66 FR 7837 (2001).

Further, U.S. note 2(d) to subchapter XIX of chapter 98 of the HTS is modified by inserting “Swaziland” in alphabetical sequence in the list of countries. This modification to the HTS is effective with respect to articles entered, or withdrawn from warehouse for consumption, on or after July 26, 2001, the effective date of the notice granting Swaziland textile and apparel benefits under the AGAO.

Robert B. Zoellick,
United States Trade Representative.

[FR Doc. 02-10664 Filed 4-30-02; 8:45 am]

BILLING CODE 3190-01-M